DEPARTMENT OF COMMERCE

National Oceanic and Atmospheric Administration

15 CFR Part 902

50 CFR Part 660

[Docket No.051027277-5277-01; I.D. 102903C]

RIN 0648-AT97

Fisheries Off West Coast States and in the Western Pacific; Highly Migratory Species Fisheries; Data Collection Requirements for U.S. Commercial and Recreational Charter Fishing Vessels

AGENCY: National Marine Fisheries Service (NMFS), National Oceanic and Atmospheric Administration (NOAA), Commerce.

ACTION: Final rule; effectiveness and enforcement of collection-of-information requirement.

SUMMARY: NMFS announces approval by the Office of Management and Budget (OMB) of collection-of-information requirements pertaining to vessel identification contained in the final rule to implement the approved portions of the U.S. West Coast Highly Migratory Species Fishery Management Plan (HMS FMP), and the effectiveness of those requirements. On February 4, 2004, NMFS partially approved the HMS FMP, and the final rule to implement the approved portions of the HMS FMP was published in the Federal Register on April 7, 2004. The HMS FMP final rule contained vessel identification requirements subject to the Paperwork Reduction Act (PRA) that, at the time of publication, were still undergoing OMB review. This action is intended to inform the public of the effective date of the requirement approved by OMB.

DATES: The amendments in this rule are effective January 6, 2006. The vessel identification requirements of 50 CFR 660.704, published on April 7, 2004 (69 FR 18444), are effective on January 6, 2006.

ADDRESSES: Copies of the HMS FMP may be obtained from Donald O. McIsaac, Executive Director, Pacific Fishery Management Council, 7700 NE Ambassador Place, Suite 200, Portland, OR 97220-1384. Copies of the HMS FMP final rule, the Final Environmental Impact Statement (FEIS), the Final Regulatory Impact Review (RIR), and the Final Regulatory Flexibility Analysis (FRFA) are available from NMFS, Southwest Regional Office, 501 West Ocean Boulevard, Suite 4200, Long Beach, CA 90802. Copies of the Small Entity Compliance Guide for the HMS FMP final rule are available on the Southwest Region, NMFS website http://swr.nmfs.noaa.gov. Written comments regarding the burden-hour estimates or other aspects of the collection-of-information requirements contained in this final rule should be submitted to Rodney A. McInnis, Regional Administrator, NMFS, Southwest Regional Office at the above address. These comments may also be submitted by e-mail to David_Rostker@omb.eop.gov, or faxed to 202-395-7285.

FOR FURTHER INFORMATION CONTACT: Craig Heberer, Sustainable Fisheries Division, Southwest Region, NMFS, 760-431-9440, ext. 303.

SUPPLEMENTARY INFORMATION: On April 7, 2004, NMFS published a final rule (69 FR 18444) that implemented the approved portion of the HMS FMP. The rule established, among other measures, data collection and reporting requirements for U.S. West Coast commercial and recreational charter fishing vessels targeting HMS. The HMS FMP final rule contained collection-of-information requirements that could not be made effective, or enforced, prior to approval by the OMB under the PRA. Delayed effectiveness and enforcement of these sections were announced in the April 7, 2004, HMS FMP final rule. In the HMS FMP final rule, NMFS requested comments on the reporting burden estimate or any other aspect of the collection-of-information requirements. No comments were received on the collection-of-information requirements. OMB has approved the collections-of-information requirements codified at 50 CFR 660.704 for vessel identification. This section will be effective on January 6, 2006 and will be enforced beginning on that date. Section 660.704 requires each fishing vessel to display its official number on the port and starboard sides of the deckhouse or hull, and on an appropriate weather deck so as to be visible from enforcement vessels and aircraft. The official number must be affixed to each vessel in block Arabic numerals at least 10 inches (25.4 cm) in height for vessels more than 25 ft (7.6 m) but equal to or less than 65 ft (19.8 m) in length; and 18 inches (45.7 cm) in height for vessels longer than 65 ft (19.8 m) in length. Markings must be legible and of a color that contrasts with the background.

Pursuant to the PRA, part 902 of title 15 of the Code of Federal Regulations displays the control numbers that OMB has assigned to NMFS information collection requirements. This notice fulfills the requirements of section 3506(c)(1)(B)(i), title 44, United States Code, which requires that agencies display a current control number, assigned by the Director of OMB, for each agency information collection requirement. This final rule codifies OMB control number 0648-0361 for § 660.704.

Classification

The Regional Administrator, NMFS, Southwest Region determined that the data collection requirements implemented by this final rule are necessary for the conservation and management of the U.S. West Coast HMS fisheries and are consistent with the Magnuson-Stevens Fishery Conservation and Management Act and other applicable law.

The data collection requirement implemented by this final rule has been determined to be not significant for purposes of Executive Order 12866.

NMFS, pursuant to section 604 of the Regulatory Flexibility Act (RFA), prepared a FRFA in support of the HMS FMP final rule published April 7, 2004. The FRFA described the economic impact that this final rule, along with other non-preferred alternatives, will have on small entities, including HMS commercial and recreational charter fishing vessels affected by this action. The contents of the FRFA and the incorporated documents (the IRFA, the RIR, and the FEIS) are not repeated here. A copy of these documents is available upon request (see ADDRESSES).

The vessel marking requirement under this final rule will establish an initial one-time reporting burden of 1002.8 hours for the 1,337 participating vessels (an average of 0.75 hours/per vessel).

This final rule contains new collection-of-information requirements approved by OMB under the PRA. Public reporting burden for these collections of information are estimated to average 45 minutes per vessel to affix the official number of a vessel to its bow and weather deck. The cost for this collection will be minimal, the cost of the paint for painting on the numbers and touch ups as needed.

Public comment is sought regarding: whether this collection of information is necessary for the proper performance of the functions of the agency, including whether the information shall have practical utility; the accuracy of the burden estimate; ways to enhance the quality, utility, and clarity of the information to be collected; and ways to minimize the burden of the collection of information, including through the use of automated collection techniques or other forms of information technology. Send comments or any other aspects of the collections of information to NMFS (see ADDRESSES) and by email to David.Rostker@omb.eop.gov, or faxed to 202-385-7285.

Notwithstanding any other provisions of the law, no person is required to respond to, and no person shall be subject to penalty for failure to comply with, a collection of information subject to the requirements of the PRA, unless that collection of information displays a currently valid OMB control number.

Small Entity Compliance Guide

Section 212 of the Small Business Regulatory Enforcement Fairness Act of 1996 states that for each rule or group of related rules for which an agency is required to prepare a FRFA, the agency shall publish one or more guides to assist small entities in complying with the rule, and shall designate such publications as “small entity compliance guides.” The agency shall explain the actions a small entity is required to take to comply with a rule or group of rules. As part of this rulemaking process, a small entity compliance guide was prepared for the HMS FMP final rule. This guide is posted on the NMFS SWR website (http://swr.nmfs.noaa.gov) and a hard copy will be sent to all interested parties upon request (see FOR FURTHER INFORMATION CONTACT).

List of Subjects in 15 CFR Part 902

Reporting and recordkeeping requirements.

Dated: October 28, 2005.
John Oliver,
Deputy Assistant Administrator for Operations, National Marine Fisheries Service.

For the reasons set out in the preamble, 15 CFR chapter IX, part 902, is amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under 50 CFR is amended by adding a new entry for § 660.704 to read as follows:

§ 902.1 OMB control numbers assigned pursuant to the Paperwork Reduction Act.

* * * * *

(b) Display.

CFR part or section where the information collection requirement is located | Current OMB control number (All numbers begin with 0648-)
* * * * * |
50 CFR |
* * * * *
660.704 | -0361
* * * * *

[FR Doc. 05-21873 Filed 11-4-05; 8:45 am]

BILLING CODE 3510-22-S